NATIONAL COMMISSION ON LIBRARIES AND INFORMATION SCIENCE (NCLIS)

Sunshine Act Meeting

AGENCY: National Commission on Libraries and Information Science.

ACTION: Notice of meeting.

SUMMARY: The U.S. National Commission on Libraries and Information Science is holding an open business meeting to discuss administrative and other matters, including development of a program and strategy related to library and information services for individuals with disabilities.

DATE AND TIME: NCLIS Business Meeting—September 12, 2001, 2:00 p.m. to 5:00 p.m.

ADDRESSES: Meeting location—Board Room, Fuller Conference Center, Old. Sturbridge Village, One Sturbridge Village Road, Sturbridge, Massachusetts 01566.

STATUS: Open meeting.

FOR FURTHER INFORMATION CONTACT: Rosalie Vlach, Director, Legislative and Public Affairs, U.S. National Commission on Libraries and Information Science, 1110 Vermont Avenue, NW., Suite 820, Washington, DC 20005, e-mail rvlach@nclis.gov. fax 202-606-9203 or telephone 202-606-9200.

SUPPLEMENTARY INFORMATION: The meeting is open to the public, subject to space availability. To make special arrangements for physically challenged persons, contact Rosalie Vlach, Director, Legislative and Public Affairs, 1110 Vermont Avenue, NW., Suite 820, Washington, DC 20005, e-mail rvlach@nclis,gov. fax 202-606-9203 or telephone 202-606-9200.

Dated: August 13, 2001.
Judith C. Russell,
NCLIS Deputy Director.

[FR Doc. 01-21025 Filed 8-16-01; 12:28 pm]

BILLING CODE 7527-$$-M